DEPARTMENT OF AGRICULTURE

Forest Service

Deschutes Provincial Advisory Committee (DPAC)

AGENCY: Forest Service, USDA.

ACTION: Notice of meeting.

SUMMARY: The Deschutes Provincial Advisory Committee will meet on July 11, 2007, starting at 8 a.m. at the Deschutes National Forest Supervisor's Office at 1001 SW. Emkay Drive, Bend, Oregon, for a field trip to the Bend-Ft. Rock and Crescent Ranger Districts. The purpose of the trip is to monitor the Dilman and Five Buttes Projects to obtain feedback from members. The trip is scheduled to end at 5 p.m. in Bend. All Deschutes Province Advisory Committee Meetings are open to the public and an open public forum is scheduled from 3 to 3:30 p.m.

FOR FURTHER INFORMATION CONTACT: Mollie Chaudet, Province Liaison, Deschutes NF, 1001 SW. Emkay Drive, Bend, Oregon, 97702, Phone (541) 383-5517.

Leslie A.C. Weldon,
Deschutes National Forest Supervisor.

[FR Doc. 07-3061 Filed 6-21-07; 8:45 am]

BILLING CODE 3410-11-M